DEPARTMENT OF ENERGY

Federal Energy Regulatory Commission

[Project No. 2058-098]

Avista Corporation; Notice of Availability of Environmental Assessment

In accordance with the National Environmental Policy Act of 1969 and the Federal Energy Regulatory Commission's (Commission or FERC's) regulations, 18 CFR part 380, the Office of Energy Projects has reviewed Avista Corporation's application for an amendment to the license for the Clark Fork Hydroelectric Project (FERC Project No. 2058), and have prepared an Environmental Assessment (EA) for the proposed amendment. The licensee proposes to construct and operate a permanent upstream fish passage facility at the project's Cabinet Gorge development. The project is located on the Clark Fork River in Bonner County, Idaho and Sanders County, Montana and occupies federal land within the Idaho Panhandle, Lolo, and Kootenai National Forests administered by the U.S. Forest Service.

The EA contains Commission staff's analysis of the potential environmental effects of the proposed amendment to the license, and concludes that the proposed amendment, with appropriate environmental protective measures, would not constitute a major federal action that would significantly affect the quality of the human environment.

A copy of the EA is available for review at the Commission in the Public Reference Room or may be viewed on the Commission's website at www.ferc.gov using the eLibrary link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support. For further information, contact Marybeth Gay at (202) 502-6125.

Dated: August 8, 2019.
Kimberly D. Bose,
Secretary.

[FR Doc. 2019-17396 Filed 8-13-19; 8:45 am]

BILLING CODE 6717-01-P